DEPARTMENT OF THE INTERIOR

National Park Service

Notice of Inventory Completion: Gilcrease Museum, Tulsa, OK

AGENCY: National Park Service, Interior.

ACTION: Notice.

Notice is here given in accordance with the Native American Graves Protection and Repatriation Act (NAGPRA), 25 U.S.C. 3003, of the completion of an inventory of human remains and associated funerary objects in the possession of the Gilcrease Museum, Tulsa, OK. The human remains and associated funerary objects were removed from Craighead County, AR.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Gilcrease Museum professional staff in consultation with representatives of the Quapaw Tribe of Indians, Oklahoma.

Between 1964 and 1968, human remains representing a minimum of 161 individuals were removed from the Charlie MacDuffie farm in Craighead County, AR, by avocational archeologist Frank Soday. The human remains and associated funerary objects were deeded by gift to the Gilcrease Museum in 1982 by the Soday Research Foundation. No known individuals were identified. The 16,783 associated funerary objects are 77 whole and restored ceramic vessels; 8,093 spindle whorls, clay beads, and pot sherds; 938 lithic flakes and tools, including projectile points, scrapers, drills, and burins; 327 fire-cracked rocks, hammerstones, celts, cores, and cobbles; 4,415 faunal bones and bone and antler tools; 2,407 mussel shells, shell fragments, and shell beads; 206 turtle shells and shell fragments; 249 daub samples; 52 charcoal pieces; 7 wood and floral samples; and 12 mineral specimens. The 9,097 unassociated funerary objects removed from the MacDuffie farm are described in an accompanying Notice of Intent to Repatriate Cultural Items.

The Charlie MacDuffie site (3CG21) is located near the town of Lunsford in Craighead County, northeastern Arkansas. Excavation records indicate that the site consisted of a “large village with two mounds.” Non-destructive analysis indicates that the human remains are Native American. Cultural items associated with the human remains have been determined to date to the Middle Mississippian period (A.D. 1170-1300). Oral history evidence presented by representatives of the Quapaw Tribe of Indians, Oklahoma indicates that the region has long been included in the traditional and hunting territory of the Quapaw. French colonial records from 1700 also indicate that the Quapaw were known then to be the only Native American group present in the St. Francis River valley region where the MacDuffie site is located. Based on the geographical location and the date of interment, the human remains are most likely to be culturally affiliated with the Quapaw Tribe of Indians, Oklahoma.

Officials of the Gilcrease Museum have determined that, pursuant to 25 U.S.C. 3001 (9-10), the human remains described above represent the physical remains of 161 individuals of Native American ancestry. Officials of the Gilcrease Museum have also determined that, pursuant to 25 U.S.C. 3001 (3)(A), the 16,783 objects described above are reasonably believed to have been placed with or near individual human remains at the time of death or later as part of the death rite or ceremony. Lastly, officials of the Gilcrease Museum have determined that, pursuant to 25 U.S.C. 3001 (2), there is a relationship of shared group identity that can be reasonably traced between the Native American human remains and associated funerary objects and the Quapaw Tribe of Indians, Oklahoma.

Representatives of any other Indian tribe that believes itself to be culturally affiliated with the human remains and associated funerary objects should contact Randy Ramer, Curator of Anthropology, Gilcrease Museum, 1400 Gilcrease Museum Road, Tulsa, OK 74127-2100, telephone (918) 596-2743, before April 13, 2006. Repatriation of the human remains and associated funerary objects to the Quapaw Tribe of Indians, Oklahoma may proceed after that date if no additional claimants come forward.

The Gilcrease Museum is responsible for notifying the Quapaw Tribe of Indians, Oklahoma that this notice has been published.

Dated: February 10, 2006.
Sherry Hutt,
Manager, National NAGPRA Program.

[FR Doc. E6-3552 Filed 3-13-06; 8:45 am]

BILLING CODE 4312-50-S